DEPARTMENT OF ENERGY

Federal Energy Regulatory Commission

[Docket No. OR16-26-000]

Aircraft Service International Group, Inc., American Airlines, Inc., Delta Air Lines, Inc., Hookers Point Fuel Facilities LLC, Southwest Airlines Co., United Aviation Fuels Corporation, United Parcel Service, Inc. v. Central Florida Pipeline LLC, Kinder Morgan Liquid Terminals LLC; Notice of Complaint

Take notice that on September 16, 2016, pursuant to Rule 206 of the Federal Energy Regulatory Commission's (Commission) Rules of Practice and Procedure, 18 CFR 385.206, section 343.2 of the Commission's Rules Applicable to Oil Pipeline Proceedings, 18 CFR 343.2 (2016), and sections 1, 6, 8, 9, 13, 15, and 16 of the Interstate Commerce Act (ICA), 49 U.S.C. app. §§ 1, 6, 8, 9, 13, 15, & 16 (1988), Aircraft Service International Group, Inc., American Airlines, Inc., Delta Air Lines, Inc., Hookers Point Fuel Facilities LLC, Southwest Airlines Co., United Aviation Fuels Corporation, and United Parcel Service, Inc. (Complainants) filed a formal complaint against Central Florida Pipeline LLC (CFPL) and Kinder Morgan Liquid Terminals LLC (KMLT) (Respondents) alleging that CFPL has unlawfully provided for physical transportation of jet fuel in interstate commerce on its pipeline without filing a tariff with the Commission in violation of ICA § 6(1) and KMLT has unlawfully provided untariffed FERC jurisdictional break out tankage service at its liquids terminal in Tampa, Florida (KMLT Tampa Terminal) in violation of ICA § 6(1). Complainants further allege that the rates charged by CFPL for the transportation of jet fuel from Tampa, Florida to the Orlando Terminal and the ASIG Terminal at Orlando International Airport in Orlando, Florida are not just and reasonable, as more fully explained in the complaint.

Complainants certify that copies of the complaint were served upon (1) the corporate representative identified in CFPL's March 1, 2016 letter to shippers establishing the currently effective tariff rates on CFPL, Meredith West, as CFPL has not designated a person on the Commission's Corporate Officials List as representing CFPL in this action, and (2) Mark Evans and Jeff Hulbert, representatives identified on Kinder Morgan's Web site as responsible for Central Florida Pipeline and Southeast Terminals and Products Pipelines Tariffs, respectively.

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainants.

The Commission encourages electronic submission of protests and interventions in lieu of paper using the “eFiling” link at http://www.ferc.gov. Persons unable to file electronically should submit an original and 5 copies of the protest or intervention to the Federal Energy Regulatory Commission, 888 First Street NE., Washington, DC 20426.

This filing is accessible on-line at http://www.ferc.gov, using the “eLibrary” link and is available for review in the Commission's Public Reference Room in Washington, DC. There is an “eSubscription” link on the Web site that enables subscribers to receive email notification when a document is added to a subscribed docket(s). For assistance with any FERC Online service, please email FERCOnlineSupport@ferc.gov, or call (866) 208-3676 (toll free). For TTY, call (202) 502-8659.

Comment Date: 5:00 p.m. Eastern Time on October 17, 2016.

Dated: September 16, 2016.
Nathaniel J. Davis, Sr.,
Deputy Secretary.

[FR Doc. 2016-22854 Filed 9-21-16; 8:45 am]

BILLING CODE 6717-01-P